DEPARTMENT OF COMMERCE

National Oceanic and Atmospheric Administration

Proposed Information Collection; Comment Request; Observer Providers of the North Pacific

AGENCY: National Oceanic and Atmospheric Administration (NOAA).

ACTION: Notice.

SUMMARY: The Department of Commerce, as part of its continuing effort to reduce paperwork and respondent burden, invites the general public and other Federal agencies to take this opportunity to comment on proposed and/or continuing information collections, as required by the Paperwork Reduction Act of 1995.

DATES: Written comments must be submitted on or before August 12, 2005.

ADDRESSES: Direct all written comments to Diana Hynek, Departmental Paperwork Clearance Officer, Department of Commerce, Room 6625, 14th and Constitution Avenue, NW., Washington, DC 20230 (or via the Internet at dHynek@doc.gov).

FOR FURTHER INFORMATION CONTACT: Requests for additional information or copies of the information collection instrument and instructions should be directed to Patsy A. Bearden, 907-586-7008 or patsy.bearden@noaa.gov.

SUPPLEMENTARY INFORMATION:

I. Abstract

The main focus of this information collection continues to be the documentation required by National Marine Fisheries Service (NMFS) from an observer provider. Observer providers are permitted by NMFS to hire and deploy qualified individuals as observers in the North Pacific groundfish fisheries. Observer candidates are required to meet specified criteria in order to qualify as an observer and must successfully complete an initial certification training course, as well as meet other criteria, prior to being certified.

II. Method of Collection

Paper applications, electronic reports, and telephone calls are required from participants, and methods of submittal include Internet and facsimile transmission of paper forms.

III. Data

OMB Number: 0648-0318.

Form Number: None.

Type of Review: Regular submission.

Affected Public: Not-for-profit institutions; and business or other for-profits organizations.

Estimated Number of Respondents: 405.

Estimated Time Per Response: 30 minutes for industry request for assistance in improving observer data quality issues; 60 hours for new permit application for observer provider; 15 minutes for update to provider information; 15 minutes for observer candidates college transcripts and disclosure statements, observer candidate; 15 minutes for observer candidates college transcripts and disclosure statements, observer provider; 5 minutes for notification of observer physical examination, observer provider; 2 hours for observer physical examination; 7 minutes for projected observer assignment; 7 minutes for briefing registration; 12 minutes for certificate of insurance; 15 minutes for copies of contracts; 7 minutes for weekly deployment/logistics reports; 7 minutes for debriefing registration; 2 hours for reports of problems; 40 hours for observer provider permit expiration or denial of permit appeals; and 20 hours for appeals for denial of observer certification, certification suspension, or decertification.

Estimated Total Annual Burden Hours: 1,963.

Estimated Total Annual Cost to Public: $84,458.

IV. Request for Comments

Comments are invited on: (a) Whether the proposed collection of information is necessary for the proper performance of the functions of the agency, including whether the information shall have practical utility; (b) the accuracy of the agency's estimate of the burden (including hours and cost) of the proposed collection of information; (c) ways to enhance the quality, utility, and clarity of the information to be collected; and (d) ways to minimize the burden of the collection of information on respondents, including through the use of automated collection techniques or other forms of information technology.

Comments submitted in response to this notice will be summarized and/or included in the request for OMB approval of this information collection; they also will become a matter of public record.

Dated: June 6, 2005.
Gwellnar Banks,
Management Analyst, Office of the Chief Information Officer.

[FR Doc. 05-11602 Filed 6-10-05; 8:45 am]

BILLING CODE 3510-22-P